ENVIRONMENTAL PROTECTION AGENCY

[ER-FRL-6627-2]

Environmental Impact Statements; Notice of Availability

Responsible Agency: Office of Federal Activities, General Information (202) 564-7167 or www.epa.gov/oeca/ofa

Weekly receipt of Environmental Impact Statements

Filed February 25, 2002 Through March 01, 2002

Pursuant to 40 CFR 1506.9.

EIS No. 020079, Draft EIS, FHW, ME, Aroostook County Transport Study, To Identify Transportation Corridors that will Improve Mobility and Efficiency within Northeastern Aroostook County and other portions of the U.S. and Canada, COE Section 401 and 404 Permits, Endangered Species Act, NPDES and Section 10 River & Harbors Act, Aroostook, ME, Comment Period Ends: April 30, 2002, Contact: Paul Lariviere, P.E. (207) 622-8355.

EIS No. 020080, Draft EIS, COE, ND, Devils Lake Basin North Dakota Study, The Reduction of Flood Damages Related to the Rising Lake Levels and the Flood-Prone Areas Around Devils Lake and to Reduce the Potential for Natural Overflow Event, Sheyenne River and Red River of the North, ND, Comment Period Ends: April 22, 2002, Contact: David Loss (651) 290-5435. This document is available on the Internet at: http://www.mvp.usace.army.mil/.

EIS No. 020081, Draft EIS, AFS, CA, Star Fire Restoration Removal of Fire-Killed Trees, Road Reconstruction, and Associated Restoration, Eldorado National Forests (ENF) Georgetown Ranger District, Middle Fork American River, Chipmunk Ridge, and the North Fork of Long Canyon, Placer County, CA, Comment Period Ends: April 22, 2002, Contact: Patricia Ferrell (530) 642-5146. This document is available on the Internet at: http://www.r5.fs.fed.us/eldorado/

EIS No. 020082, Final EIS, FHW, CA, CA-84—Realignment Project, Transportation Improvement between CA-84 from I-880 to CA-2389/Mission Blvd, Funding and COE Section 404 Permit, in the Cities of Fremont, Hayward and Union, Alameda County, CA, Wait Period Ends: April 08, 2002, Contact: Maiser Khaled (916) 498-5020.

EIS No. 020083, Draft EIS, BPA, OR, WA, McNary-John Day Transmission Line Project, Proposing to Construct, Operate, and Maintain a 79-mile-long 500-Kilovolt-Transmission Line, Between McNary Substation and John Day Substation, Umatilla and Sherman Counties, OR and Benton and Klickitat Counties, WA, Comment Period Ends: April 23, 2002, Contact: Stacy Mason (503) 230-5455. This document is available on the Internet at: http://www.bpa.gov or www.eh.doe.gov/nepa

EIS No. 020084, Final EIS, FHW, HI, Kihei-Upcountry Maui Highway, Transportation Improvements, Funding and COE Section 404 Permit, County of Maui, HI, Wait Period Ends: April 08, 2002, Contact: Domingo Galicinao (808) 541-2700.

EIS No. 020085, Final EIS, USA, Programmatic EIS, Army Transformation, Army Vision to Address the Changing Circumstances of the 21st Century, Transformation in three Phases: Initial Phase, Interim Capacibility Phase, and an Objective Force Phase, Wait Period Ends: April 08, 2002, Contact: George Wallace (703) 692-3139.

EIS No. 020086, Final EIS, USN, CA, El Toro Marine Corps Air Station Disposal and Reuse, Recommendation and Approval of an Airport Layout Plan for Civilian Airport, Funding, NPDES Permit, Orange County, CA , Wait Period Ends: April 08, 2002, Contact: Robert Montana (619) 532-0942. The US Department of the Navy and the US Department of Transportation's Federal Aviation Administration are Joint Lead Agencies for this project.

Dated: March 5, 2002.
Joseph C. Montgomery,
Director, NEPA Compliance Division, Office of Federal Activities.

[FR Doc. 02-5665 Filed 3-7-02; 8:45 am]

BILLING CODE 6560-50-U